SMALL BUSINESS ADMINISTRATION

[Disaster Declaration #16180; Louisiana Disaster Number LA-00098 Declaration of Economic Injury]

Administrative Declaration of an Economic Injury Disaster for the State of Louisiana

AGENCY: U.S. Small Business Administration.

ACTION: Amendment 1.

SUMMARY: This is an amendment of an Economic Injury Disaster Loan (EIDL) declaration for the State of Louisiana, dated 11/05/2019.

Incident: New Orleans Hard Rock Hotel Collapse and Related Street Closures.

Incident Period: 10/12/2019 through 06/24/2020.

DATES: Issued on 06/26/2020.

Economic Injury (EIDL) Loan Application Deadline Date: 08/05/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of an Administrator's EIDL declaration for the State of Louisiana, dated 11/05/2019, is hereby amended to establish the incident period for this disaster as beginning 10/12/2019 and continuing through 06/24/2020.

All other information in the original declaration remains unchanged.

(Catalog of Federal Domestic Assistance Number 59008)

Jovita Carranza,
Administrator.

[FR Doc. 2020-14593 Filed 7-7-20; 8:45 am]

BILLING CODE 8026-03-P